FEDERAL TRADE COMMISSION

Agency Information Collection Activities; Proposed Collection; Comment Request; Extension

AGENCY: Federal Trade Commission.

ACTION: Notice.

SUMMARY: In accordance with the Paperwork Reduction Act of 1995 (PRA), the Federal Trade Commission (FTC or Commission) is seeking public comment on its proposal to extend for an additional three years the current PRA clearance for its information collection requirements in the Power Output Claims for Amplifiers Utilized in Home Entertainment Products (“Amplifier Rule” or “Rule”). This clearance expires on April 30, 2024.

DATES: Comments must be filed by May 16, 2024.

ADDRESSES: Interested parties may file a comment online or on paper, by following the instructions in the Request for Comment part of the SUPPLEMENTARY INFORMATION section below. Written comments and recommendations for the proposed information collection should be sent within 30 days of publication of this notice to www.reginfo.gov/public/do/PRAMain. Find this particular information collection by selecting “Currently under 30-day Review—Open for Public Comments” or by using the search function. The reginfo.gov web link is a United States Government website produced by the Office of Management and Budget (OMB) and the General Services Administration (GSA). Under PRA requirements, OMB's Office of Information and Regulatory Affairs (OIRA) reviews Federal information collections.

FOR FURTHER INFORMATION CONTACT: Hong Park, Attorney, Division of Enforcement, Bureau of Consumer Protection, Federal Trade Commission, (202) 326-2158, hpark@ftc.gov.

SUPPLEMENTARY INFORMATION:

Title: Amplifier Rule, 16 CFR part 432.

OMB Control Number: 3084-0105.

Type of Review: Extension of a currently approved collection.

Estimated Annual Hours of Burden: 462 hours (308 testing hours; 154 disclosure hours).

Likely Respondents and Estimated Burden: (a) Testing—High fidelity manufacturers—308 new products/year × 1 hour each = 308 hours; and (b) Disclosures—High fidelity manufacturers—[(308 new products/year × 1 specification sheet) + (308 new products/year × 1 brochure)] × 15 minutes per specification sheet or brochure = 154 hours.

Frequency of Response: Periodic.

Estimated Annual Labor Cost: $28,019 per year ($17,131 for testing + $10,888 for disclosures).

Abstract: The Amplifier Rule assists consumers by standardizing the measurement and disclosure of power output and related performance characteristics of amplifiers in stereos and other home entertainment equipment. The Rule also specifies the test conditions necessary to make the disclosures that the Rule requires.

Request for Comment

On January 19, 2024, the FTC sought public comment on the information collection requirements associated with the Rule. 89 FR 3658. No germane comments were received. Pursuant to the OMB regulations, 5 CFR part 1320, that implement the PRA, 44 U.S.C. 3501 et seq., the FTC is providing this second opportunity for public comment while seeking OMB approval to renew the pre-existing clearance for the Rule.

Your comment—including your name and your State—will be placed on the public record of this proceeding. Because your comment will be made public, you are solely responsible for making sure that your comment does not include any sensitive personal information, such as anyone's Social Security number; date of birth; driver's license number or other state identification number, or foreign country equivalent; passport number; financial account number; or credit or debit card number. You are also solely responsible for making sure that your comment does not include any sensitive health information, such as medical records or other individually identifiable health information. In addition, your comment should not include any “trade secret or any commercial or financial information which . . . is privileged or confidential” —as provided by section 6(f) of the FTC Act, 15 U.S.C. 46(f), and FTC rule 4.10(a)(2), 16 CFR 4.10(a)(2)—including in particular competitively sensitive information such as costs, sales statistics, inventories, formulas, patterns, devices, manufacturing processes, or customer names.

Josephine Liu,
Assistant General Counsel for Legal Counsel.

[FR Doc. 2024-08012 Filed 4-15-24; 8:45 am]

BILLING CODE 6750-01-P